DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on April 23, 2009, vol. 74, no. 77, page 18605-18606. This request is a change to FAA Form 5100-127, Operating and Financial Summary, where we will now collect limited statistical information on airport operations. This new information will add 10 lines to the Form and 1 hour to the Forms preparation time. Large, medium, and small hub commercial service airports will be asked to provide this information. A copy of the modified Form is available for public inspection at FAA Docket-2009-0257. This notice is supplementary to the notice of this Airport Grants Program revision published in the Federal Register on February 3, 2009 [74 FR 5965]. Additionally, since that notice of revision, the burden for this collection has increased due to new requirements imposed by the American Recovery and Reimbursement Act of 2009 (ARRA).

DATES: Please submit comments by July 31, 2009.

FOR FURTHER INFORMATION CONTACT: Carla Mauney at Carla.Mauney@faa.gov.

SUPPLEMENTARY INFORMATION: Federal Aviation Administration (FAA).

Title: Airports Grants Program Including ARRA Requirements.

Type of Request: Revision of a currently approved collection.

OMB Control Number: 2120-0569.

Forms(s) Forms 5100-100, 5100-101, 5100-108, 5100-126, 5100-127, 5370-1.

Affected Public: An estimated 1,950 respondents.

Frequency: This information is collected on occasion.

Estimated Average Burden Per Response: Approximately 9 hours per response.

Estimated Annual Burden Hours: An estimated 86,379 hours annually.

Abstract: The FAA collects information from airport sponsors and planning agencies in order to administer the Airports Grants Program. Data is used to determine eligibility, ensure proper use of Federal Funds, and ensure project accomplishments.

ADDRESSES: Interested persons are invited to submit written comments on the proposed information collection to the Office of Information and Regulatory Affairs, Office of Management and Budget. Comments should be addressed to the attention of the Desk Officer, Department of Transportation/FAA, and sent via electronic mail to oira_submission@omh.eop.gov, or faxed to (202) 395-6974, or mailed to the Office of Information and Regulatory Affairs, Office of Management and Budget, Docket Library, Room 10102, 725 17th Street, NW., Washington, DC 20503.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 23, 2009.
Carla Mauney,
FAA Information Collection Clearance Officer, IT Enterprises Business Services Division, AES-200.

[FR Doc. E9-15390 Filed 6-30-09; 8:45 am]

BILLING CODE 4910-13-M